DEPARTMENT OF HOUSING AND URBAN DEVELOPMENT

[Docket No. FR-5907-N-12]

Federal Property Suitable as Facilities to Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 5B-17, Parklawn Building, 5600 Fishers Lane, Rockville, MD 20857, (301)-443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AGRICULTURE: Ms. Debra Kerr, Department of Agriculture, Reporters Building, 300 7th Street SW., Room 300, Washington, DC 20024, (202)-720-8873; ENERGY: Mr. David Steinau, Department of Energy, Office of Property Management, OECM MA-50, 4B122, 1000 Independence Ave. SW., Washington, DC 20585 (202) 287-1503; GSA: Mr. Flavio Peres, General Services Administration, Office of Real Property Utilization and Disposal, 1800 F Street NW., Room 7040 Washington, DC 20405, (202) 501-0084; NAVY: Mr. Steve Matteo, Department of the Navy, Asset Management; Division, Naval Facilities Engineering Command, Washington Navy Yard, 1330 Patterson Ave. SW., Suite 1000, Washington, DC 20374; (202) 685-9426; VA: Ms. Jessica L. Kaplan, Department of Veteran Affairs, 810 Vermont Ave. NW., (0031E), Washington, DC 20420; (202) 632-5831 (These are not toll-free numbers).

Dated: March 10, 2016.
Brian P. Fitzmaurice,
Director, Division of Community Assistance, Office of Special Needs Assistance Programs.

TITLE V, FEDERAL SURPLUS PROPERTY PROGRAM FEDERAL REGISTER REPORT FOR 03/18/2016

Suitable/Available Properties

Building

Missouri

3 Buildings

90, 91 & 92 Grant Avenue

St. Louis MO 63125

Landholding Agency: GSA

Property Number: 54201610011

Status: Surplus

GSA Number: 7-D-MO-0421-6

Directions: Former St. Louis Air Force Station Family Housing Annex

Disposal Agency: GSA; Landholding Agency: AF

Comments: 77+ yrs. old; 19,350 sq. ft.; 15+ yrs. vacant; residential; buildings in state of disrepair; listed on Nat'l Register of Historic Places; contact GSA for more information.

New York

Compensated Work Therapy

(CWT) Transitional Residences

43 Tampa Ave.

Albany NY 12208

Landholding Agency: VA

Property Number: 97201610001

Status: Unutilized

Comments: 85+ yrs. old; 1,496 sq. ft.; residential; heating system inefficient; no future agency need; contact kelli.witt@va.gov for more information.

Compensated Work Therapy

Property (CWT) Transitional Residences

223 Delaware Ave.,

Delmar NY 12054

Landholding Agency: VA

Property Number: 97201610002

Status: Unutilized

Comments: 124+ yrs. old; 1,720 sq. ft.; residential; heating system inefficient; significant water damage to interior and utility systems; contact kelli.witt@va.gov for more information.

Compensated Work Therapy

Property (CWT) Transitional Residences

893 5th Avenue

Troy NY 12181

Landholding Agency: VA

Property Number: 97201610003

Status: Unutilized

Directions: Sits on 0.06 acres of land

Comments: 85+ yrs. old; 2,280 sq. ft.; residential; water damage to walls; no future agency need; contact kelli.witt@va.gov for more information.

Oregon

Gates Log Scale Shack

(1609565010602)

Hwy 22

Gates OR 97346

Landholding Agency: Agriculture

Property Number: 15201610024

Status: Unutilized

Comments: off-site removal only; 300 sq. ft.; no future agency need; poor conditions; vandalized; significant repairs needed; contact Agriculture for more information.

Suitable/Available Properties

Land

Washington

Paine Field

Everett Facility Section 27

Everett WA

Landholding Agency: GSA

Property Number: 54201610012

Status: Excess

GSA Number: 9-U-WA-1284

Directions: Landholding Agency: FAA; disposal Agency: GSA

Comments: 0.54 acres; used as Outer Maker facility for aircraft approaches; contact GSA for more information.

Unsuitable Properties

Building

California

2 Buildings

Marine Corps Air Station Miramar

Miramar CA

Landholding Agency: Navy

Property Number: 77201610030

Status: Excess

Directions: Building 9598 & 9689

Comments: Public access denied and no alternative method to gain access without compromising national security.

Reasons: Secured Area

Illinois

2 Buildings

Fermi National Accelerator Laboratory

Batavia IL 60510

Landholding Agency: Energy

Property Number: 41201610009

Status: Excess

Directions: T121-Portakamp 37080; 002-Main Ring Gazebo

Comments: Public access denied and no alternative method to gain access without compromising national security.

Reasons: Secured Area

Nevada

7 Buildings

Nevada National Security Site

Mercury NV 89093

Landholding Agency: Energy

Property Number: 41201610007

Status: Unutilized

Directions: Building's ID-998678 (12-L); ID-408157 (25-3124); ID-408083 (25-3232); ID-408085 (25-3231); ID-408084 (25-3230); ID-998694 (12-K); ID-998680 (12-J)

Comments: Public access denied and no alternative method to gain access without compromising national security.

Reasons: Secured Area

7 Buildings

Nevada National Security Site

Mercury NV 89093

Landholding Agency: Energy

Property Number: 41201610008

Status: Unutilized

Directions: Building's ID-998825 (12-7); ID-998661 (06-CP-170); ID-998820 (06-CP-60); ID-202173 (06-CP-20); ID-992068 (06-CP-10); ID-991847 (06-CP-10A); ID-B100944 (12-B100944);

Comments: Public access denied and no alternative method to gain access without compromising national security.

Reasons: Secured Area

Pennsylvania

Building 608A

Naval Support Activity Mechanicsburg

Mechanicsburg PA

Landholding Agency: Navy

Property Number: 77201610028

Status: Excess

Comments: Public access denied and no alternative method to gain access without compromising national security.

Reasons: Secured Area

Rhode Island

Building A138

138 Cushing Road

Newport RI 02841

Landholding Agency: Navy

Property Number: 77201610029

Status: Excess

Comments: Public access denied and no alternative method to gain access without compromising national security; property located within floodway which has not been correct or contained.

Reasons: Floodway; Secured Area

Washington

Norwood Water System Building

(1298.005071) 07665 00

Liscumm Rd

Quinault WA 98575

Landholding Agency: Agriculture

Property Number: 15201610025

Status: Excess

Comments: Documented deficiencies: falling roof & floor; structurally unsound; clear threat to physical safety

Reasons: Extensive deterioration

Norwood Storage Pole Barn

(273953010602) 07665 00

Liscumm Rd

Quinault WA 98575

Landholding Agency: Agriculture

Property Number: 15201610026

Status: Excess

Comments: Documented deficiencies: building posts are rotten; structurally unsound; clear threat to physical safety.

Reasons: Extensive deterioration

[FR Doc. 2016-05832 Filed 3-17-16; 8:45 am]

BILLING CODE 4210-67-P